DEPARTMENT OF HEALTH AND HUMAN SERVICES

Centers for Disease Control and Prevention

[30Day-04-04HH]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

Active Surveillance of Ciguatera in Culebra, Puerto Rico—New—National Center for Environmental Health (NCEH), Centers for Disease Control and Prevention (CDC).

Ciguatera fish poisoning (CFP) is a serious health threat to people in Puerto Rico. Many finfish that live in the island's coral reefs carry ciguatoxin. When people consume these finfish, they can get CFP, a condition that causes gastrointestinal and neurological symptoms. To quantify the health burden caused by CFP, the local department of health tallies the number of cases of CFP reported by health care providers on the island. A recent evaluation of this passive surveillance system determined that the majority of CFP cases that occur on the island are missed. To accurately quantify the health threat of CFP to the population in Puerto Rico, the National Center for Environmental Health, Centers for Disease Control and Prevention, in conjunction with the Puerto Rico Department of Health, will conduct active surveillance for CFP for twelve (12) months in Puerto Rico.

This active surveillance system will quantify the public health burden of CFP by determining the incidence, risk factors, and economic effect of CFP in Culebra, Puerto Rico. Household questionnaire, Part B will be administered to each household in Culebra every four (4) months for one (1) year. This questionnaire elicits information on household fish consumption and identifies individuals who have developed symptoms of CFP. A second questionnaire will be administered once individuals having symptoms compatible with CFP are identified. This second questionnaire explores personal risk factors, medical management, and costs incurred while the individuals were ill with CFP. To confirm the presence of ciguatoxin in affected areas, fish will be collected from local reefs, fish vendors, and any appropriate leftover fish from people with CFP. The fish will be analyzed by the U.S. Food and Drug Administration.

Ultimately, the information provided by this study will aid the Puerto Rico Department of Health in controlling the health threat of CFP. Quantifying the incidence, risk factors, and economic burden of CFP will guide the development of preventive strategies. The annualized burden to respondents is estimated to be 250 hours.

Respondents | Number of respondents | Number of responses per respondent | Average burden per response (in hrs.)
Recruitment and consent | 512 | 1 | 2/60
Household Part A | 360 | 1 | 7/60
Household Part B | 720 | 3 | 5/60
Individuals | 45 | 1 | 15/60

Dated: September 29, 2004.
Alvin Hall,
Director, Management Analysis and Services Office, Centers for Disease Control and Prevention.

[FR Doc. 04-22348 Filed 10-4-04; 8:45 am]

BILLING CODE 4163-18-P